DEPARTMENT OF DEFENSE

Department of the Army

Publication of Revision and Consolidation of Military Freight Traffic Rules Publications (MFTRP) 1C-R (Motor), 10 (Rail), 30 (Barge), 6A (Pipeline), 4A (Tank Truck), Military Standard Tender Instruction Publication (MSTIP) 364D, SpotBid Business Rules, and SDDC Military Class Rate Publication No. 100A to a Consolidation of Procurement Requirements for the Purchase of Commercial Transportation Services Into the Military Freight Traffic Unified Rules Publication (MFTURP) No. 1

AGENCY: Department of the Army, DOD.

SUMMARY: The Military Surface Deployment and Distribution Command (SDDC) is providing notice that it intends to publish its consolidated procurement requirements of commercial transportation services publication, the MFTURP No. 1, which governs the purchase of surface freight transportation in the Continental United States (CONUS) by DOD using Federal Acquisition Regulation (FAR) exempt transportation service contracts. The purpose for this new procurement procedure is to streamline the transportation requirements to reflect the current needs of the DOD.

DATES: This publication will be effective July 9, 2009.

FOR FURTHER INFORMATION CONTACT: Ms. Dora J. Elias, (757) 878-5379.

SUPPLEMENTARY INFORMATION:

A notice proposing this publication and an open comment period was published in the Federal Register (74 FR 13423) on Friday, March 27, 2009. In response to this notice, a total of six (6) comments were received. A summary of the comments and SDDC's responses are as follows:

Comment one (1): It is not believed that the unified rules currently provide Full Replacement Value (FRV) for Household Goods (HHG) Freight All Kinds (FAK) shipments correctly. Also believes that deletion of verbiage that indicates shipper can increase carrier liability because it is covered in another item.

Response one (1): SDDC has no objection to the revised verbiage provided by the commenter and will incorporate changes as annotated.

Comment two (2): For the sake of clarity and ease of understanding, SDDC is urged to adopt and use uniform terminology by referring specifically to TSP brokers, freight forwarders and logistics companies when that meaning is intended.

Response two (2): SDDC agrees with commenter and will incorporate clear terminology when referring specifically to that segment of transportation service providers.

Comment three (3): Within Section A, Part II, Paragraph C.1, there is a requirement to provide 24-hour on call point of contact information on all subcontracted TSPs. Commenter believes this information should be with the prime contractor, i.e., the broker, freight forwarder, or logistic provider.

Response three (3): SDDC understands this might produce more information than what is truly needed. As a result, SDDC will retain the requirement of the broker, freight forwarder or logistic company to maintain an electronic listing of all subcontracted TSPs it may utilize in the transportation of DoD freight. However, the requirement to also provide the subcontracted TSP's corporate office address, telephone numbers and 24-hour point of contact will be removed. This information should remain with the broker, freight forwarder and/or logistic company.

Comment four (4): Within Section A, Part II, Paragraph C.3, contains ambiguity in terminology. To clarify intent, the first sentence should read: “Subcontracted TSP will provide sufficient documentation for SDDC to verify and confirm that they have been engaged by the TSP broker, freight forwarder or logistics company named on the BL or shipment documentation.”

Response four (4): SDDC agrees, for the most part, with the verbiage provided by the commenter, with a small modification to provide the shipper the sufficient documentation to verify the subcontracted TSP has been engaged by the broker, freight forwarder or logistics company named on the BL or shipment documentation.

Comment five (5): In Section A, Part II, Paragraph C.8, commenter believes that any request for shipment status should make clear that such requests be made to the prime broker, freight forwarder or logistics company.

Response five (5): SDDC agrees and will provide the following verbiage: “The status of any shipment tendered to a broker, freight forwarder, or logistics company will be provided within 24 hours upon SDDC's request to the broker, freight forwarder or logistics company's designated POC.”

Comment six (6): In Section A, Part II, Paragraph E.4, expand requirement to include email load confirmations that is available to SDDC and the driver.

Response six (6): While this particular paragraph deals, specifically, with TSPs with motor authority that may participate in long-term leases with other TSPs, the suggestion is viable and will be incorporated.

Miscellaneous: This publication, as well as the other SDDC publications, can be accessed via the SDDC Web site at: http://www.sddc.army.mil/Public/Global%20Cargo%20Distribution/Domestic/Publications/.

Brenda S. Bowen,
Army Federal Register Liaison Officer.

[FR Doc. E9-13436 Filed 6-8-09; 8:45 am]

BILLING CODE 3710-08-P